Proclamation 10424 of July 15, 2022

National Atomic Veterans Day, 2022

By the President of the United States of America

A Proclamation

On National Atomic Veterans Day, we recognize the brave service of America's Atomic Veterans. We renew our commitment to supporting Atomic Veterans and to preserving their stories, so that Americans will always remember both their crucial role in our history and our aspiration for a world without nuclear weapons.

The military personnel who participated in nuclear testing between 1945 and 1962, served in the Armed Forces in or around Hiroshima and Nagasaki through mid-1946, or were held as prisoners of war in or near Hiroshima or Nagasaki stand among our bravest heroes. Many of these veterans stepped forward to defend our democratic values and helped to end the deadliest conflict in history. Yet, despite their service in uniform, Atomic Veterans were prevented from discussing the nature of their service—including with their families. Although many Atomic Veterans developed serious health conditions due to radiation exposure, they were unable to seek medical care or disability compensation from the Department of Veterans Affairs (VA) for injuries and diseases associated with their exposure.

Decades later, when the United States Congress repealed the Nuclear Radiation and Secrecy Agreements Act, veterans exposed to radiation through their service-related activities were finally able to break their silence and qualify for select VA benefits and services. Tragically, many Atomic Veterans passed away without ever receiving the health care they deserved and without their families knowing the true extent of their service.

Our Nation has many obligations, but only one sacred obligation: to prepare and equip the troops that we send into harm's way and to care for them when they return home, as well as their families, caregivers, and survivors. For far too long, our Nation failed in our sacred obligation to our Atomic Veterans. It is a mistake our country must never repeat. I am committed to ensuring that all of our Nation's veterans and their families, caregivers, and survivors have timely access to the services, medical care, and benefits that they deserve—including addressing the health effects of exposures to environmental toxins and harmful substances, such as the toxic fumes from burn pits. Since taking office, we have made several improvements to how we identify and address potential service-connected conditions, and the First Lady and I are personally committed to ensuring that all our veterans and their families, caregivers, and survivors receive the benefits and services they have earned.

On National Atomic Veterans Day, we honor the Atomic Veterans who sacrificed on behalf our Nation. Our Atomic Veterans are patriots, and their bravery and service will always be remembered.

NOW, THEREFORE, I, JOSEPH R. BIDEN JR., President of the United States of America, by virtue of the authority vested in me by the Constitution and the laws of the United States, do hereby proclaim July 16, 2022, as National Atomic Veterans Day. I call upon all Americans to observe this day with appropriate ceremonies and activities that honor our Nation's Atomic Veterans whose brave service and sacrifice played an important role in the defense of our Nation.

IN WITNESS WHEREOF, I have hereunto set my hand this fifteenth day of July, in the year of our Lord two thousand twenty-two, and of the Independence of the United States of America the two hundred and forty-seventh.

[FR Doc. 2022-15593

Filed 7-19-22; 8:45 am]

Billing code 3395-F2-P